DEPARTMENT OF ENERGY

Federal Energy Regulatory Commission

[Docket No. OR06-12-000]

Enbridge Pipeline (NE Texas Liquids) L.P.; Notice of Temporary Waiver of Filing and Reporting Requirements

October 5, 2006.

Take notice that on August 23, 2006, Enbridge Pipelines (NE Texas Liquids) L.P. (Enbridge) filed a Petition for Temporary Waiver of Filing and Reporting Requirements of the Interstate Commerce Act (ICA) Section 6 and Section 20 applicable to interstate common carrier pipelines for its new liquids pipeline, the Hide Town Line. Enbridge states that it anticipates that it will complete the construction and testing of both the Hide Town Plant and the Hide Town Line no later than mid-October 2006. Enbridge requests approval to permit use of the Hide Town Line by November 1, 2006.

Enbridge states that it is in the process of constructing a new natural gas processing plant (the Hide Town Plant) and a new, dedicated liquids pipeline to transport the products from the Hide Town Plant to downstream, interstate markets. All of the throughput moved on the pipeline will be owned by an Enbridge affiliate. There will not be any intermediate points on the pipeline, nor has any third-party expressed an interest in becoming a shipper on the pipeline.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time October 10, 2006.

Magalie R. Salas,
Secretary.

[FR Doc. E6-16973 Filed 10-12-06; 8:45 am]

BILLING CODE 6717-01-P